DEPARTMENT OF ENERGY

Federal Energy Regulatory Commission

[Docket No. IC19-30-000]

Commission Information Collection Activities (FERC-920); Comment Request

AGENCY: Federal Energy Regulatory Commission, DOE.

ACTION: Comment request.

SUMMARY: In compliance with the requirements of the Paperwork Reduction Act of 1995, the Federal Energy Regulatory Commission (Commission or FERC) is submitting its information collection FERC-920 [Electric Quarterly Reports (EQR)] to the Office of Management and Budget (OMB) for review of the information collection requirements. Any interested person may file comments directly with OMB and should address a copy of those comments to the Commission as explained below. The Commission previously published a Notice in the Federal Register on July 8, 2019 requesting public comments. The Commission received no comments and is making this notation in its submittal to OMB.

DATES: Comments on the collection of information are due by October 23, 2019.

ADDRESSES: Comments filed with OMB, identified by the OMB Control No. 1902-0255, should be sent via email to the Office of Information and Regulatory Affairs: oira_submission@omb.gov. Attention: Federal Energy Regulatory Commission Desk Officer.

A copy of the comments should also be sent to the Commission, in Docket No. IC19-30-000, by either of the following methods:

• eFiling at Commission's Website: http://www.ferc.gov/docs-filing/efiling.asp.

• Mail/Hand Delivery/Courier: Federal Energy Regulatory Commission, Secretary of the Commission, 888 First Street NE, Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, by telephone at (202) 502-8663, and by fax at (202) 273-0873.

SUPPLEMENTARY INFORMATION: Title: FERC-920 [Electric Quarterly Reports (EQR)].

OMB Control No.: 1902-0255.

Abstract: The Commission originally set forth the EQR filing requirements in Order No. 2001 (Docket No. RM01-8-000, issued April 25, 2002, at http://elibrary.ferc.gov/idmws/search/intermediate.asp?link_file=yes&doclist=2270047). Order No. 2001 required public utilities to electronically file EQRs summarizing transaction information for short-term and long-term cost-based sales and market-based rate sales and the contractual terms and conditions in their agreements for all jurisdictional services.¹ The Commission established the EQR reporting requirements to help ensure the collection of information needed to perform its regulatory functions over transmission and sales, while making data more useful to the public and allowing public utilities to better fulfill their responsibility under FPA section 205(c) to have rates on file in a convenient form and place. As noted in Order No. 2001, the EQR data is designed to “provide greater price transparency, promote competition, enhance confidence in the fairness of the markets, and provide a better means to detect and discourage discriminatory practices.”

¹ Revised Public Utility Filing Requirements, Order No. 2001, 67 FR 31043 (May 8, 2002), FERC Stats. & Regs. ¶ 31,127, reh'g denied, Order No. 2001-A, 100 FERC ¶ 61,074, reh'g denied, Order No. 2001-B, 100 FERC ¶ 61,342, order directing filing, Order No. 2001-C, 101 FERC ¶ 61,314 (2002), order directing filing, Order No. 2001-D, 102 FERC ¶ 61,334, order refining filing requirements, Order No. 2001-E, 105 FERC ¶ 61,352 (2003), order on clarification, Order No. 2001-F, 106 FERC ¶ 61,060 (2004), order revising filing requirements, Order No. 2001-G, 72 FR 56735 (Oct. 4, 2007), 120 FERC ¶ 61,270, order on reh'g and clarification, Order No. 2001-H, 73 FR 1876 (Jan. 10, 2008), 121 FERC ¶ 61,289 (2007), order revising filing requirements, Order No. 2001-I, 73 FR 65526 (Nov. 4, 2008), 125 FERC ¶ 61,103 (2008).

Since issuing Order No. 2001, the Commission has provided guidance and refined the reporting requirements, as necessary, to reflect changes in the Commission's rules and regulations.² The Commission also adopted an Electric Quarterly Report Data Dictionary, which provides in one document the definitions of certain terms and values used in filing EQR data.³

² See, e.g., Revised Public Utility Filing Requirements for Electric Quarterly Reports, 124 FERC ¶ 61,244 (2008) (providing guidance on the filing of information on transmission capacity reassignments in EQRs); Notice of Electric Quarterly Reports Technical Conference, 73 FR 2477 (Jan. 15, 2008) (announcing a technical conference to discuss changes associated with the EQR Data Dictionary).

³ Order No. 2001-G, 120 FERC ¶ 61,270 (2007).

To increase transparency broadly across all wholesale markets subject to the Commission's jurisdiction, the Commission issued Order No. 768 in 2012.⁴ Order No. 768 required market participants that are excluded from the Commission's jurisdiction under the Federal Power Act section 205 (non-public utilities) and have more than a de minimis market presence to file EQRs with the Commission. In addition, Order No. 768 revised the EQR filing requirements to build upon the Commission's prior improvements to the reporting requirements and further enhance the goals of providing greater price transparency, promoting competition, instilling confidence in the fairness of the markets, and providing a better means to detect and discourage anti-competitive, discriminatory, and manipulative practices.

⁴ Order No. 768, 77 FR 61896 (Oct. 11, 2012), FERC Stats. & Regs. ¶ 31,336 (2012).

EQR information allows the public to assess supply and demand fundamentals and to price interstate wholesale market transactions. This, in turn, results in greater market confidence, lower transaction costs, and ultimately supports competitive markets. In addition, the data filed in the EQR strengthens the Commission's ability to exercise its wholesale electric rate and electric power transmission oversight and enforcement responsibilities in accordance with the Federal Power Act. Without this information, the Commission would lack some of the data it needs to examine and approve or modify electric rates.

Type of Respondent: Public utilities, and non-public utilities with more than a de minimis market presence.

Estimate of Annual Burden: ⁵ The Commission estimates the annual public reporting burden for the information collection as:

⁵ “Burden” is the total time, effort, or financial resources expended by persons to generate, maintain, retain, or disclose or provide information to or for a Federal agency. For further explanation of what is included in the information collection burden, refer to Title 5 Code of Federal Regulations 1320.3.

The cost is based on FERC's 2019 average FTE (full-time equivalent) cost (wages plus benefits) of $80.00/hour. The Commission staff believes the FERC FTE cost for wages plus benefits is representative of the corresponding cost for the industry respondents.

FERC-920: Electric Quarterly Reports (EQR)
Number of respondents | Annual number of responses per respondent | Total number of responses | Average burden hrs. & cost per response | Total annual burden hours & total annual cost
(1) | (2) | (1) * (2) = (3) | (4) | (3) * (4) = (5)
2,595 | 4 | 10,380 | 18.1 hrs.; $1,448 | 187,878 hrs.; $15,030,240

Dated: September 18, 2019.
Nathaniel J. Davis, Sr.,
Deputy Secretary.

[FR Doc. 2019-20515 Filed 9-20-19; 8:45 am]

BILLING CODE 6717-01-P